DEPARTMENT OF ENERGY

Federal Energy Regulatory Commission

[Project No. 13015-003]

Town of Edgartown; Notice of Preliminary Permit Application Accepted for Filing and Soliciting Comments, Motions To Intervene, and Competing Applications

On March 3, 2011, the Town of Edgartown, Massachusetts (Edgartown), filed an application for a successive preliminary permit, pursuant to section 4(f) of the Federal Power Act (FPA), proposing to study the feasibility of the Muskeget Channel Tidal Energy Project to be located in Muskeget Channel, between the islands of Martha's Vineyard and Nantucket, Dukes County and Nantucket County, Massachusetts. The sole purpose of a preliminary permit, if issued, is to grant the permit holder priority to file a license application during the permit term. A preliminary permit does not authorize the permit holder to perform any land-disturbing activities or otherwise enter upon lands or waters owned by others without the owners' express permission.

The proposed project would consist of the following: (1) 13 Commercially operated OCGen™ horizontal hydrokinetic cross flow turbine generation units, each with an installed capacity of 0.38 megawatts (MW) for a total installed capacity of 4.94 MW, and one experimental turbine unit that would be used to test various open-bladed and helical tidal energy technologies; (2) a mooring and anchoring system attached to each unit consisting of four mooring lines, an anchor, and a clump weight; (3) two alternative submarine cable routes consisting of a either a 3.5-mile-long, or a 5-mile-long submarine cable with two 13.8-kilovolt (kv) lines and a 4.0-kv transmission line connecting the turbine generation units to an onshore substation located either in the Chappaquiddick or Katama sections of Edgartown; (4) two alternative onshore transmission line routes consisting of a 34.5 kv transmission line connecting either the Chappaquiddick or Katama onshore station to an existing distribution line in Edargatown; and (5) appurtenant facilities. The project would have an average annual generation of 10.95 gigawatt-hours

Applicant Contact: Ms. Pamela Dolby, Town Administrator, Town of Edgartown, 70 Main Street, Edgartown, MA 02539; phone: (508) 627-6180.

FERC Contact: Michael Watts; phone: (202) 502-6123.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commentors can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13015-003) in the docket number field to access the document. For assistance, contact FERC Online Support.

Dated: May 18, 2011.
Kimberly D. Bose,
Secretary.

[FR Doc. 2011-12869 Filed 5-24-11; 8:45 am]

BILLING CODE 6717-01-P